DEPARTMENT OF ENERGY

Federal Energy Regulatory Commission

[Docket Nos. IC10-917-000 and IC10-918-000]

Commission Information Collection Activities; Comment Request; Extension

May 20, 2010.

AGENCY: Federal Energy Regulatory Commission.

ACTION: Notice of proposed information collections and request for comments.

SUMMARY: In compliance with the requirements of section 3506(c)(2)(A) of the Paperwork Reduction Act of 1995, 44 U.S.C. 3506(c)(2)(A) (2006), (Pub. L. 104-13), the Federal Energy Regulatory Commission (Commission or FERC) is soliciting public comment on the proposed information collections described below.

DATES: Comments in consideration of the collections of information are due July 27, 2010.

ADDRESSES: Comments may be filed either electronically (eFiled) or in paper format, and should refer to Docket Nos. IC10-917-000 and IC10-918-000. For comments that only pertain to one of the collections, specify the appropriate collection and related docket number. Documents must be prepared in an acceptable filing format and in compliance with Commission submission guidelines at http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's e-mail address upon receipt of eFiled comments. Commenters making an eFiling should not make a paper filing. Commenters that are not able to file electronically must send an original and two (2) paper copies of their comments to: Federal Energy Regulatory Commission, Secretary of the Commission, 888 First Street, NE., Washington, DC 20426.

Users interested in receiving automatic notification of activity in this docket may do so through eSubscription at http://www.ferc.gov/docs-filing/esubscription.asp. In addition, all comments and FERC issuances may be viewed, printed or downloaded remotely through FERC's eLibrary at: http://www.ferc.gov/docs-filing/elibrary.asp, by searching on Docket Nos. IC10-917 and IC10-918. For user assistance, contact FERC Online Support by e-mail at ferconlinesupport@ferc.gov, or by phone, toll-free, at: (866) 208-3676, or (202) 502-8659 for TTY.

FOR FURTHER INFORMATION CONTACT: Ellen Brown may be reached by e-mail at DataClearance@ferc.gov, telephone at (202) 502-8663, and fax at (202) 273-0873.

SUPPLEMENTARY INFORMATION: On February 17, 2007, the Commission issued Order No. 890 to address and remedy opportunities for undue discrimination under the pro forma Open Access Transmission Tariff (OATT) adopted in 1996 by Order No. 888.¹ Through Order No. 890, the Commission:

¹ Promoting Wholesale Competition Through Open Access Non-discriminatory Transmission Services by Public Utilities; Recovery of Stranded Costs by Public Utilities and Transmitting Utilities, Order No. 888, 61 FR 21540 (May 10, 1996), FERC Stats. & Regs. ¶ 31,036 (1996), order on reh'g, Order No. 888-A, 62 FR 12274 (Mar. 14, 1997), FERC Stats. & Regs. ¶ 31,048 (1997), order on reh'g, Order No. 888-B, 81 FERC ¶ 61,248 (1997), order on reh'g, Order No. 888-C, 82 FERC ¶ 61,046 (1998), aff'd in relevant part sub nom. Transmission Access Policy Study Group v. FERC, 225 F.3d 667 (DC Cir. 2000), aff'd sub nom. New York v. FERC, 535 U.S. 1 (2002).

(1) Adopted pro forma OATT provisions necessary to keep imbalance charges closely related to incremental costs;

(2) Increased nondiscriminatory access to the grid by requiring public utilities, working through the North American Electric Reliability Corporation (NERC), to develop consistent methodologies for available transfer capability (ATC) calculation and to publish those methodologies to increase transparency.

(3) Required an open, transparent, and coordinated transmission planning process thereby increasing the ability of customers to access new generating resources and promote efficient utilization of transmission.

(4) Gave the right to customers to request from transmission providers, studies addressing congestion and/or integration of new resource loads in areas of the transmission system where they have encountered transmission problems due to congestion or where they believe upgrades and other investments may be necessary to reduce congestion and to integrate new resources.

(5) Required both the transmission provider's merchant function and network customers to include a statement with each application for network service or to designate a new network resource that attests, for each network resource identified, that the transmission customer owns or has committed to purchase the designated network resource and the designated network resource comports with the requirements for designated network resources. The network customer includes this attestation in the customer's comment section of the request when it confirms the request on the Open Access Same-Time Information System (OASIS).

(6) Required with regard to capacity reassignment that: (a) All sales or assignments of capacity be conducted through or otherwise posted on the transmission provider's OASIS on or before the date the reassigned service commences; (b) assignees of transmission capacity execute a service agreement prior to the date on which the reassigned service commences; and (c) transmission providers aggregate and summarize in an electric quarterly report the data contained in these service agreements.

(7) Adopted an operational penalties annual filing that provides information regarding the penalty revenue the transmission provider has received and distributed.

(8) Required creditworthiness information to be included in a transmission provider's OATT. Attachment L must specify the qualitative and quantitative criteria that the transmission provider uses to determine the level of secured and unsecured credit required.

The Commission required a NERC/NAESB ² team to draft and review Order No. 890 reliability standards and business practices. The team was to solicit comment from each utility on developed standards and practices and utilities were to implement each, after Commission approval. Public utilities, working through NERC, were to revise reliability standards to require the exchange of data and coordination among transmission providers and, working through NAESB, were to develop complementary business practices.

² NAESB is the North American Energy Standards Board.

Required OASIS postings included:

(1) Explanations for changes in ATC values;

(2) Capacity benefit margin (CBM) reevaluations and quarterly postings;

(3) OASIS metrics and accepted/denied requests;

(4) Planning redispatch offers and reliability redispatch data;

(5) Curtailment data;

(6) Planning and system impact studies;

(7) Metrics for system impact studies;

(8) All rules.

Incorporating the Order No. 890 standards into the Commission's regulations benefits wholesale electric customers by streamlining utility business practices, transactional processes, and OASIS procedures, and by adopting a formal ongoing process for reviewing and upgrading the Commission's OASIS standards and other electric industry business practices. These practices and procedures benefit from the implementation of generic industry standards.

The Commission's Order No. 890 regulations can be found in 18 CFR 35.28 (pro forma tariff requirements), and 37.6 and 37.7 (OASIS requirements).

Action: The Commission is requesting a three-year extension of the current FERC-917 and FERC-918 (Order No. 890) reporting requirements, with no change to the existing requirements.

Burden Statement: FERC-917 and FERC-918 are both included in OMB Control Number 1902-0233. The estimated annual public reporting burdens for FERC-917 (requirements in 18 CFR 35.28) and FERC-918 (requirements in 18 CFR 37.6 and 37.7) are reduced from the original estimates made three years ago. The reductions are due to the incorporation and completion of: (1) One-time pro forma tariff changes by utilities in existence at that time; (2) completed development and comment solicitation of the required NERC/NAESB reliability standards and business practices; and (3) the transfer of burden associated with the implementation of some of the NERC/NAESB business practices, in Order No. 729, issued November 11, 2009,³ to the Commission's FERC-725A information collection (OMB Control Number 1902-0244). The estimated annual figures follow.

³ Mandatory Reliability Standards for the Calculation of Available Transfer Capability, Capacity Benefit Margins, Transmission Reliability Margins, Total Transfer Capability, and Existing Transmission Commitments and Mandatory Reliability Standards for the Bulk-Power System, Order No. 729, 74 FR 64884 (Dec. 3, 2009) 129 FERC ¶ 61,155.

The FERC-725A requirements (Mandatory Reliability Standards for the Bulk-Power System, which now includes the utilities' implementation) are separate and are not a subject of this Notice in Docket Nos. IC10-917 and IC10-918. The FERC-725A reporting and recordkeeping requirements in Order 729 (Docket No. RM08-19, et. al.) were approved by OMB (in ICR Number 200912-1902-005) on 3/12/2010.

FERC Information collection | Annual No. of respondents | Average No. of reponses per respondent | Average burden hours per response | Total annual burden hours
| (1) | (2) | (3) | (1) × (2) × (3)
18 CFR 35.28 (FERC-917)
Conforming tariff changes | 6 | 1 | 25 | 150
Revision of Imbalance Charges | 6 | 1 | 5 | 30
ATC revisions | 6 | 1 | 40 | 240
Planning (Attachment K) | 134 | 1 | 100 | 13,400
Congestion studies | 134 | 1 | 300 | 40,200
Attestation of network resource commitment | 134 | 1 | 1 | 134
Capacity reassignment | 134 | 1 | 100 | 13,400
Operational Penalty annual filing | 134 | 1 | 10 | 1,340
Creditworthiness—include criteria in the tariff | 6 | 1 | 40 | 240
FERC-917—Sub Total Part 35 |  |  |  | 69,134
18 CFR 37.6 & 37.7 (FERC-918)
ATC-related standards:
NERC/NAESB Team to develop | 0 | 0 | 0 | 0
Review and comment by utility | 0 | 0 | 0 | 0
Implementation by each utility ³ | 0 | 0 | 0 | ³ 0
Mandatory data exchanges | 134 | 1 | 80 | 10,720
Explanation of change of ATC values | 134 | 1 | 100 | 13,400
Reevaluate CBM and post quarterly | 134 | 1 | 20 | 2,680
Post OASIS metrics; requests accepted/denied | 134 | 1 | 90 | 12,060
Post planning redispatch offers and reliability redispatch data | 134 | 1 | 20 | 2,680
Post curtailment data | 134 | 1 | 10 | 1,340
Post Planning and System Impact Studies | 134 | 1 | 5 | 670
Posting of metrics for System Impact Studies | 134 | 1 | 100 | 13,400
Post all rules to OASIS | 134 | 1 | 5 | 670
FERC-918—Sub Total of Part 37 Reporting Requirements |  |  |  | 57,620
FERC-918—Recordkeeping Requirements | 134 | 1 | 40 | 5,360
FERC-918—Sub Total of Reporting and Recordkeeping Requirements |  |  |  | 62,980
Total FERC-917 and FERC-918 (Part 35 + Part 37, Reporting and Recordkeeping Requirements) |  |  |  | 132,114

Total combined annual burden for FERC-917 and FERC-918 is 132,114 hours (126,754 reporting hours + 5,360 recordkeeping hours). This is a reduction of 24,922 hours from the combined FERC-917 and FERC-918 burden OMB previously approved.

Total combined estimated annual cost for FERC-917 and FERC-918 is $21,941,076.⁴ This includes:

⁴ Using the hourly rate figures of the Bureau of Labor Statistics, occupational series and market rates as applicable, the hourly rate is a composite of the respondents who will be responsible for implementing and responding to the collection of information (support staff, engineering, and legal).

(1) Reporting costs of $14,449,956; (126,754 hours @ $114 an hour (average cost of attorney ($200 per hour), consultant ($150), technical ($80), and administrative support ($25)) and

(2) Recordkeeping (labor and storage) costs of $7,491,120; (labor = $91,120; 5,360 hours × $17/hour (file/record clerk @ $17 an hour) and off-site storage costs = $7,400,000; (8,000 sq. ft. × $925/sq. ft.).

The reporting burden includes the total time, effort, or financial resources expended to generate, maintain, retain, disclose, or provide the information including: (1) Reviewing instructions; (2) developing, acquiring, installing, and utilizing technology and systems for the purposes of collecting, validating, verifying, processing, maintaining, disclosing, and providing information; (3) adjusting the existing ways to comply with any previously applicable instructions and requirements; (4) training personnel to respond to the collections of information; (5) searching data sources; (6) completing and reviewing the collections of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimate of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g., permitting electronic submission of responses.

Kimberly D. Bose,
Secretary.

[FR Doc. 2010-12853 Filed 5-27-10; 8:45 am]

BILLING CODE 6717-01-P